DEPARTMENT OF HEALTH AND HUMAN SERVICES

Food and Drug Administration

[Docket No. 98N-0044]

Small Entity Compliance Guide: “Structure/Function Claims;” Availability

Correction

In notice document 02-451 appearing on page 1225 in the issue of Wednesday, January 9, 2002, make the following correction:

On page 1225, in the third column, in the third line, the web address is corrected to read as follows: “http://www.cfsan.fda.gov/~dms/guidance.html”.

[FR Doc. C2-451 Filed 1-17-02; 8:45 am]

BILLING CODE 1505-01-D

DEPARTMENT OF STATE

[Public Notice 3872]

Privacy Act of 1974, as Amended: New System of Records

Correction

In notice document 02-236 beginning on page 623 in the issue of Friday, January 4, 2002 make the following correction:

On page 624, in the second column, under the heading Notification Procedure: in the ninth line, “202-161-8571” should read, “202-261-8571”.

[FR Doc. C2-236 Filed 1-17-02; 8:45 am]

BILLING CODE 1505-01-D

DEPARTMENT OF TRANSPORTATION

Research and Special Programs Administration

Office of Hazardous Materials Safety; Notice of Applications for Modification or Exemption

Correction

In the issue of Tuesday, January 8, 2002, on page 953, in the third column, in the correction of notice document 01-31656, the table should read as set forth below.

Application No. | Docket No. | Applicant | Modification of exemption
3216-M |  | Solvay Fluorides, St. Louis, MO (See Footnote 1) | 3216
8215-M |  | Olin Corp., Brass & Winchester, Inc., East Alton, IL (See Footnote 2) | 8215
10442-M |  | Kennedy Space Center, Kennedy Space Center, FL (See Footnote 3) | 10442
10798-M |  | Chemetall Foote Corporation, Kings Mountain, NC (See Footnote 4) | 10798
10929-M |  | Bulkmatic Transport Company, Jersey City, NJ (See Footnote 5) | 10929
11185-M |  | Medical Waste Solutions, Inc., Gary, IN (See Footnote 6) | 11185
11770-M |  | Gas Cylinder Technologies, Inc., Tecumseh, Ontario N8N 2M4 Canada (See Footnote 7) | 11770
11911-M | RSPA-97-2735 | Transfer Flow, Inc., Chico, CA (See Footnote 8) | 11911
11924-M | RSPA-97-2744 | Wrangler Corp., A Division of Lapoint Industries, Auburn, ME (See Footnote 9) | 11924
12817-M | RSPA-01-10513 | Phibro-Tech, Inc., Fort Lee, NJ (See Footnote 10) | 12817

[FR Doc. C1-31656 Filed 1-17-02; 8:45 am]

BILLING CODE 1505-01-D